FEDERAL COMMUNICATIONS COMMISSION

47 CFR Part 64

[CG Docket No. 02-278; FCC 24-24; FR ID 248552]

Strengthening the Ability of Consumers To Stop Robocalls

AGENCY: Federal Communications Commission.

ACTION: Final rule; announcement of effective dates.

SUMMARY: In this document, the Federal Communications Commission (Commission) announces the effective date of the rules adopted in the Telephone Consumer Protect Act (TCPA) Consent Order. Specifically, the Commission amended existing rules and adopted new rules to make it simpler for consumers to revoke consent to unwanted robocalls and robotexts while requiring that callers and texters honor these requests in a timely manner.

DATES: The effective date for the amendments to 47 CFR 64.1200(a)(9)(i)(F) and (d)(3) and the addition of 47 CFR 64.1200(a)(10) and (11), published March 5, 2024, at 89 FR 15756 is April 11, 2025.

FOR FURTHER INFORMATION CONTACT: Richard D. Smith of the Consumer and Governmental Affairs Bureau at (717) 338-2797 or Richard.Smith@fcc.gov. For information regarding the PRA information collection requirements contained in the PRA, contact Cathy Williams, Office of Managing Director, at (202) 418-2918, or Cathy.Williams@fcc.gov.

SUPPLEMENTARY INFORMATION: This document announces that the Office of Management and Budget (OMB) approved the information collection requirements in 47 CFR 64.1200(a)(9)(i)(F), (a)(10) and (11), and (d)(3) on September 26, 2024. In the TCPA Consent Order, the Commission concluded that the appropriate timeframe for implementation of these amended rules is six months following publication in the Federal Register of notice that OMB has completed any required review of the adopted rules. The Commission publishes this document as an announcement of the effect date of these rules.

The full text of document FCC 24-24 is available online at FCC-24-24A1.pdf. To request this document in accessible formats for people with disabilities (e.g., Braille, large print, electronic files, audio format) or to request reasonable accommodations (e.g., accessible format documents, sign language interpreters, CART), send an email to fcc504@fcc.gov or call the FCC's Consumer and Governmental Affairs Bureau at (202) 418-0530 (voice).

Federal Communications Commission.
Marlene Dortch,
Secretary, Office of the Secretary.

[FR Doc. 2024-23605 Filed 10-10-24; 8:45 am]

BILLING CODE 6712-01-P